DEPARTMENT OF AGRICULTURE

Rural Business-Cooperative Service

Notice of a Public Meeting on Implementation of Title IX, Energy Authorities of the Food, Conservation and Energy Act of 2008

AGENCY: Rural Business-Cooperative Service, USDA.

ACTION: Notice of public meeting.

SUMMARY: The Business and Cooperative Programs, an Agency in the Rural Development Mission Area of the United States Department of Agriculture, will hold a public meeting September 4, 2008, entitled “Expanding Rural Renewable Energy Opportunities—Inviting a Dialogue with the Public on the new authorities of the Food, Conservation, and Energy Act of 2008 (Pub. L. 110-234) (“the Act”).” The purpose of this event is to gather public comments and suggestions on how to implement certain new authorities authorized under Title IX of the Act.

DATES: The meeting will be held on Thursday, September 4, 2008. Registration will start at 8 a.m.; the program will begin at 8:30 a.m. and conclude by 4 p.m. Eastern Time.

ADDRESSES: The meeting will be held in the Jefferson Auditorium, South Agriculture Building, U.S. Department of Agriculture, 1400 Independence Avenue, SW., Washington, DC. Participants should enter the building through the 5th wing entrance of the South Building located on Independence Avenue between 12th and 14th Street. Valid photo identification is required for clearance by building security personnel.

FOR FURTHER INFORMATION CONTACT: Robin Robinson, Confidential Assistant, Office of the Administrator, USDA, Rural Development, Business and Cooperative Programs, Room 5803, South Agriculture Building, STOP 3201, 1400 Independence Avenue, SW., Washington, DC 20250-3201, Telephone: (202) 690-4730, E-mail: robin.robinson@wdc.usda.gov.

SUPPLEMENTARY INFORMATION: Specifically, USDA has an interest in initiating a dialogue on the following sections of Title IX of the Act:

Section numbers below refer to sections of the Farm Security and Rural Investment Act that are amended by section 9001 of the Food, Conservation, and Energy Act of 2008.

Section 9003, Biorefinery Assistance—Provides loan guarantees to fund the development, construction, and retrofitting of commercial-scale biorefineries and grants to assist in paying the cost of the development and construction of demonstration-scale biorefineries. The Act provides $75 million in fiscal year (FY) 2009 and $245 million for FY 2010 for loan guarantee costs for the financing of commercial-scaled biorefineries. In addition, the Act authorizes appropriated funding of $150 million for each of FY 2009-2012, for both the demonstration and commercial scaled biorefineries.

Section 9004, Repowering Assistance—Provides for payments to be made to biorefineries in existence at time of enactment of the Act to replace fossil fuels used to produce heat or power to operate the biorefineries with renewable biomass. The Act provides $35 million for FY 2009, to remain available until expended. In addition, the Act authorizes additional appropriated funding in the amount of $15 million for each of FY 2009-2012.

Section 9005, Bioenergy Program for Advanced Biofuels—Provides for payments to be made to eligible producers to support and ensure an expanding production of advanced biofuels. The Act provides $55 million for FY 2009 and 2010, $85 million for FY 2011, and $105 million for FY 2012. In addition, the Act authorizes appropriated funding in the amount of $25 million for each of FY 2009-2012.

Section 9007, Rural Energy for America Program—Expands and renames the program formerly referred to as the Renewable Energy Systems and Energy Efficiency Improvements Program. Under the expansion, hydroelectric source technologies will be added as eligible; energy audits will be included as eligible costs, and loan limits will be increased. The Act provides $55 million for FY 2009, $60 million for FY 2010, and $70 million for FY 2011 and 2012. In addition, the Act authorizes additional appropriated funding in the amount $25 million for each of FY 2009-2012.

Section 9009, Rural Energy Self-Sufficiency Initiative—Provides financial assistance (grants) for the purpose of enabling eligible rural communities to substantially increase the energy self-sufficiency of the eligible rural communities. The Act authorizes appropriated funding in the amount of $5 million for each of FY 2009-2012.

Section 9011, Biomass Crop Assistance Program (BCAP)—Provides support to the establishment and production of crops for conversion to bio-energy in project areas and to assist with collection, harvest, storage, and transportation of eligible material for use in a biomass conversion facility. The BCAP will be implemented by the Farm Service Agency with the support of other Federal and local agencies.

Section 9012, Forest Biomass for Energy—The Forest Service is authorized to conduct a competitive research and development program to use forest biomass for energy. Forest Service R&D and other federal agencies, state and local governments, Indian tribes, land-grant colleges and universities, and private entities are eligible to compete in the program. Priority research projects include:

• The use of low-value forest biomass for energy from forest health and hazardous fuels reduction treatment.

• The integrated production of energy from forest biomass into biorefineries or other existing manufacturing.

• The development of new transportation fuels from forest biomass.

• The improved growth and yield of trees for renewable energy production.

The Act authorizes appropriation funding in the amount $15 million for each of FY 2009 through 2012.

Section 9013, Community Wood Energy Program—Reducing the Nation's dependence on foreign energy sources remains a top Administration priority. USDA Secretary Schafer is committed to increasing domestic energy production, including the development of farm- and forest-based energy sources, strengthening the economy of rural America, and reducing our dependence on imported oil. Program provides grants to State and local governments to develop community wood energy plans and to acquire or upgrade wood energy systems. The act authorizes appropriated funding in the amount of $5 million for each of fiscal years 2009 through 2012.

Instructions for Participation

Although registration is encouraged, walk-ins will be accommodated to the extent that space permits. Registered participants will be given priority for making presentations prior to walk-ins. Anyone interested in the Act programs that support renewable energy development and energy efficiency improvements is encouraged to attend the public meeting. Presentations will be limited to no more than 10 minutes in duration. To register and request time for an oral statement, contact Robin Robinson, Office of the Administrator, USDA, Rural Development, Business and Cooperative Programs, Room 5803 South Agriculture Building, STOP 3201, 1400 Independence Avenue, SW., Washington, DC 20250-3201; Telephone: 202-690-4730, E-mail: robin.robinson@wdc.usda.gov. Comments by e-mail should be in an ASCII file. Written comments should clearly identify which of the above referenced sections the comments are addressing. Anyone may attend without preregistering.

Anyone intending in making an electronic presentation must provide such presentation via e-mail to Robin Robinson no later than Friday, August 29th and bring a copy of the presentation with them on a portable electronic media to the meeting. You will be notified if USDA does not have the equipment available to permit you to make the presentation. Due to technical problems that can arise, you are advised to have a backup plan for making the presentation.

Depending on the level of interest expressed by the registered participants, certain blocks of time will be allotted for oral presentations by referenced sections mentioned in this notice.

In addition, the Department will allow written comments to be provided on the referenced Sections of Title IX of the Act up to 15 days following the date of the public meeting. These written comments should be submitted to Robin Robinson, Room 5803 South Agriculture Building, STOP 3201, 1400 Independence Avenue, SW., Washington, DC 20250-3201.

Copies of the presentations and any additional written comments that are received within the 15 days following the public meeting will be available for review at http://www.usda.gov/wps/portal/!ut/p/_s.7_0_A/7_0_2KD?navid=FARMBILL2008.

Participants who require a sign language interpreter or other special accommodations should contact Robin Robinson as directed above.

The oral and written information obtained from interested parties will be considered in implementing provisions of Sections 9003, 9004, 9005, 9007, 9009, 9011, 9012, and 9013. In order to assure that the Act is implemented to meet constituent needs, USDA, Rural Development is sponsoring a listening forum and soliciting written comments to encourage public comment in conjunction with Farm Service Agency and Forest Service participation in gathering input and comments and in making recommendations on program implementation. All comments are welcome, and no attempt will be made to establish a consensus.

Non-Discrimination Statement

“The U.S. Department of Agriculture (USDA) prohibits discrimination in all its program and activities on the basis of race, color, national origin, age, disability, and where applicable, sex, marital status, familial status, parental status, religion, sexual orientation, genetic information, political beliefs, reprisal, or because all or part of an individual's income is derived from any public assistance program. (Not all prohibited bases apply to all programs). Persons with disabilities who require alternative means for communication of program information (Braille, large print, audiotape, etc.) should contact USDA's TARGET Center at (202) 720-2600 (voice and TDD). To file a complaint of discrimination, write to USDA, Director, Office of Adjudication and Compliance, 1400 Independence Avenue, SW., Washington, DC 20250-9410, or call (800) 795-3272 (voice), or (202) 720-6382 (TDD). USDA is an equal opportunity provider, employer, and lender.”

Dated: August 15, 2008.
Thomas C. Dorr,
Under Secretary,Rural Development.

[FR Doc. E8-19703 Filed 8-25-08; 8:45 am]

BILLING CODE 3410-XY-P